INTERNATIONAL TRADE COMMISSION

[Investigation No. 337-TA-1399]

Certain Fiber-Optic Connectors, Adapters, Jump Cables, Patch Cords, Products Containing the Same, and Components Thereof; Notice of Commission Determination Not To Review an Initial Determination Granting Leave To Amend the Complaint and Notice of Investigation

AGENCY: International Trade Commission.

ACTION: Notice.

SUMMARY: Notice is hereby given that the U.S. International Trade Commission has determined not to review an initial determination (“ID”) (Order No. 27) of the presiding administrative law judge (“ALJ”) granting leave to amend the complaint and notice of investigation.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On April 26, 2024, the Commission instituted this investigation based on a complaint, as supplemented, filed on behalf of US Conec, Ltd., of Hickory, North Carolina (“US Conec”). 89 FR 32459-60 (Apr. 26, 2024). The complaint alleged violations of section 337 of the Tariff Act of 1930, as amended, 19 U.S.C. 1337, based upon the importation into the United States, the sale for importation, and the sale within the United States after importation of certain fiber-optic connectors, adapters, jump cables, patch cords, products containing the same, and components thereof that infringe certain claims of U.S. Patent Nos. 11,733,466; 11,808,994; 11,906,794; 11,880,075; 11,385,415 and 10,495,823. Id. at 32459. The complaint also alleged that a domestic industry exists. Id. The Commission's notice of investigation names as respondents Senko Advance Co., Ltd. of Yokkaichi City, Japan and Senko Advanced Components, Inc. of Hudson, Massachusetts (“the Senko Respondents”); Eaton Corp. of Dublin, Ireland; Tripp Lite Holdings, Inc. of Woodridge, Illinois; FS.com Inc. of New Castle, Delaware; Infinite Electronics, Inc. of Irvine, California; L-com, Inc. of North Andover, Massachusetts; Sumitomo Electric Industries, Ltd. of Osaka, Japan; Sumitomo Electric Lightwave Corp. of Raleigh, North Carolina; Sumitomo Electric U.S.A., Inc. of Torrance, California; EZconn Corp. of New Taipei City, Taiwan; Flexoptix GmbH of Darmstadt, Germany; Shenzhen UnitekFiber Solution Ltd. of Shenzhen, China; Hubbell Inc. of Shelton, Connecticut; Hubbell Premise Wiring, Inc. of Shelton, Connecticut; Shenzhen IH Optics Co., Ltd. of Shenzhen, China; Rayoptic Communication Co., Ltd., of Shenzhen, China; and HuNan Surfiber Technology Co., Ltd. of Changsha, China. Id. at 32460. The Office of Unfair Import Investigations (“OUII”) is participating in this investigation. Id.

On July 9, 2024, US Conec filed a motion for leave to amend the complaint and notice of investigation to: (1) add Protai Photonic Co., Ltd., Jarllytec Co., Ltd., and Wave2Wave Solutions Corp. d/b/a FiberSmart as respondents; (2) correct the name of respondent L-com, Inc. to L-com, LLC; (3) adopt a previous supplement to the original complaint; and (4) correct a typographic error in paragraph 54 of the complaint. On July 18, 2024, OUII filed a response in support of the motion. On July 19, 2024, the Senko Respondents opposed the proposed addition of the three respondents because the additions were not sufficiently supported by evidence. No other party responded to the motion. On July 24, 2024, US Conec filed a reply in support of its motion.

On July 31, 2024, the ALJ issued the subject ID granting the motion and granted leave to US Conec to amend its complaint as requested pursuant to Commission Rule 210.14(b)(1) (19 CFR 210.14(b)(1)). The ID finds that US Conec showed that the proposed additional respondents were involved in activities concerning the same accused products already at issue in the investigation, that good cause supports the amendments, and that the amendments would not prejudice the public interest or the rights of the parties. No petitions for review of the subject ID were received.

The Commission has determined not to review the subject ID.

The Commission vote for this determination took place on August 16, 2024.

The authority for the Commission's determination is contained in section 337 of the Tariff Act of 1930, as amended (19 U.S.C. 1337), and in part 210 of the Commission's Rules of Practice and Procedure (19 CFR part 210).

By order of the Commission.
Issued: August 19, 2024.
Lisa Barton,
Secretary to the Commission.

[FR Doc. 2024-18849 Filed 8-21-24; 8:45 am]

BILLING CODE 7020-02-P